NATIONAL TRANSPORTATION SAFETY BOARD

Sunshine Act Meeting

Time and Date: 9:30 a.m., Tuesday, May 4, 2010.

Place: NTSB Conference Center, 429 L'Enfant Plaza SW., Washington, DC 20594.

Status: The one item is open to the public.

Agenda

Matter To Be Considered: 8082A Aircraft Accident Report—Loss of Thrust in Both Engines After Encountering a Flock of Birds and Subsequent Ditching on the Hudson River, US Airways Flight 1549, Airbus A320-214, N106US, Weehawken, New Jersey, January 15, 2009.

News Media Contact: Telephone: (202) 314-6100.

The press and public may enter the NTSB Conference Center one hour prior to the meeting for set up and seating.

Individuals requesting specific accommodations should contact Rochelle Hall at (202) 314-6305 by Friday, April 30, 2010. The public may view the meeting via a live or archived Webcast by accessing a link under “News & Events” on the NTSB home page at www.ntsb.gov.

FOR MORE INFORMATION CONTACT: Candi Bing, (202) 314-6403.

Dated: Friday, April 16, 2010.
Candi R. Bing,
Federal Register Liaison Officer.

[FR Doc. 2010-9189 Filed 4-19-10; 11:15 am]

BILLING CODE 7533-01-P